DEPARTMENT OF TRANSPORTATION

Federal Aviation Administration

Thirty-First Meeting: RTCA Special Committee (213) Enhanced Flight Visions Systems/Synthetic Vision Systems (EFVS/SVS)(Joint With EUROCAE WG-79)

AGENCY: Federal Aviation Administration (FAA), U.S. Department of Transportation (DOT).

ACTION: Notice of Thirty-First RTCA Special Committee 213 Meeting.

SUMMARY: The FAA is issuing this notice to advise the public of the Thirty-First RTCA Special Committee 213 meeting.

DATES: The meeting will be held May 10-12, 2016 from 8:30 a.m.-5:00 p.m.

ADDRESS: The meeting will be held at Thales, 3 Rue Toussaint Catros, 33185 Le Haillan, Bordeaux, France, Tel: (202) 330-0662.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680. Additional Points of Contract: Bruno Aymeric, bruno.aymeric@fr.thalesgroup.com, phone +33 5 56 13 66 79, mobile +33 6 31 84 51 96; Tim Etherington, tjetheri@rockwellcollins.com, phone (757) 864-5796, mobile (757) 690-3178; Patrick Krohn, pkrohn@uasc.com, phone (425) 602-1375, mobile (425) 829-1996. The RTCA SC-213 Web site has contact information to support the meetings.

SUPPLEMENTARY INFORMATION: Pursuant to section 10(a)(2) of the Federal Advisory Committee Act (Pub. L. 92-463, 5 U.S.C., App.), notice is hereby given for a meeting of RTCA Special Committee 213. The agenda will include the following:

Tuesday, May 10, 2016

1. Plenary discussion (sign-in at 08:00 a.m.)

a. Introductions and administrative items

b. Review and approve minutes from last full plenary meeting

c. Review of terms of reference and update work product dates

d. WG1, WG2, WG3 and WG4 status updates

e. Industry updates

f. Working group discussion

Wednesday, May 11, 2016

1. Plenary Discussion

a. Working Group Discussion

Thursday, May 12, 2016

1. Plenary discussion

a. Working group discussion

b. Administrative items (new meeting location/dates, action items etc.)

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on April 1, 2016.
Latasha Robinson,
Management & Program Analyst, NextGen, Enterprise Support Services Division, Federal Aviation Administration.

[FR Doc. 2016-07915 Filed 4-5-16; 8:45 am]

BILLING CODE 4910-13-P